DEPARTMENT OF TRANSPORTATION

Maritime Administration

Marine Transportation System National Advisory Council

ACTION: National Advisory Council public meeting.

SUMMARY: The Maritime Administration announces that the Marine Transportation System National Advisory Council (MTSNAC) will hold a meeting to discuss Marine Transportation System (MTS) data and system measurement, actions on the Intermodal Report public/private recommendations, the impact of proposed Panama Canal expansion on the MTS, and the Council's workplan for the upcoming year. A public comment period is scheduled for 8:30 a.m. to 9 a.m. on Wednesday, December 6, 2006. To provide time for as many people to speak as possible, speaking time for each individual will be limited to three minutes. Members of the public who would like to speak are asked to contact Richard J. Lolich by November 29, 2006. Commenters will be placed on the agenda in the order in which notifications are received. If time allows, additional comments will be permitted. Copies of oral comments must be submitted in writing at the meeting. Additional written comments are welcome and must be filed by December 14, 2006.

DATES: The meeting will be held on Tuesday, December 5, 2006, from 8:30 a.m. to 5 p.m. and Wednesday, December 6, 2006 from 8:30 a.m. to 2 p.m.

ADDRESSES: The meeting will be held in the Hyatt Regency Jacksonville Riverfront Hotel, 225 Coast Line Drive East, Jacksonville, FL 32202. The hotel's phone number is 904-588-1234.

FOR FURTHER INFORMATION CONTACT: Richard Lolich, (202) 366-7678; Maritime Administration, MAR-830, Room 7201, 400 Seventh St., SW., Washington, DC 20590; richard.lolich@dot.gov.

(Authority: 49 CFR 1.66)

Dated: November 14, 2006.
Joel C. Richard,
Secretary, Maritime Administration.

[FR Doc. E6-19445 Filed 11-16-06; 8:45 am]

BILLING CODE 4910-81-P